DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2008, there were five applications approved. This notice also includes information on four applications, approved in February 2008, inadvertently left off the February 2008 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Chattanooga Metropolitan Airport Authority, Chattanooga, Tennessee.

Application Number: 08-04-C-00-CHA.

Application Type: Impose and use a PFC.

PFC level: $4.50.

Total PFC Revenue Approved in This Decision: $2,413,001.

Earliest Charge Effective Date: August 1, 2010.

Estimated Charge Expiration Date: October 1, 2012.

Class of Air Carriers Not Required To Collect PFCs: Air taxi/commercial operators filing FAA Form 1800-31.

Determination: Approved. Based on information contained in the public agency's application, the FAA has determined that the approved class accounts for less than 1 percent of the total annual enplanements at Chattanooga Metropolitan Airport.

Brief Description of Projects Approved for Collection and Use:

Aircraft rescue and firefighting station.

Taxiway H, phases I and II.

Runway 15/33 rehabilitation.

Taxiway A north.

New electrical vault.

Access control system upgrade.

Replace runway weather information system.

Repair commercial service ramp.

Obstruction clearing for runway 2.

Runway 2/20 crack seal repair.

Master plan.

Design, relocation, and reconstruction of taxiways A, B, and C.

West airfield apron.

Ground support equipment.

PFC application development.

PFC program administration.

Decision Date: February 27, 2008.

FOR FURTHER INFORMATION CONTACT: Cynthia Wills, Memphis Airports District Office, (901) 322-8190.

Public Agency: County of Mohave, Bullhead City, Arizona.

Application Number: 08-01-C-00-IFP.

Application Type: Impose and use a PFC.

PFC Level: $2.00.

Total PFC Revenue Approved in This Decision: $744,600.

Earliest Charge Effective Date: May 1, 2008.

Estimated Charge Expiration Date: July 1, 2012.

Class of Air Carriers Not Required To Collect PFCS: None.

Brief Description of Projects Approved for Collection and Use:

Airport master plan, phases I and II.

Terminal building rehabilitation.

Runway 16/34 rehabilitation.

Runway safety area improvements—runway 16.

Acquire aircraft rescue and firefighting protective clothing.

Air traffic control tower radio equipment.

Rehabilitate access road and parking lot.

Rehabilitate aircraft parking apron.

Construct taxiway D extension.

Acquire high-speed sweeper.

Acquire aircraft rescue and firefighting vehicle.

Construct aircraft rescue and firefighting station.

Environmental assessment for land acquisition.

Install emergency generator.

Improve airport drainage.

PFC administrative costs.

Brief Description of Project Approved for Collection: Extend runway 16/34 (design only).

Decision Date: February 28, 2008.

FOR FURTHER INFORMATION CONTACT: Darlene Williams, Los Angeles Airports District Office, (310) 725-3625.

Public Agency: County of Chemung, Elmira, New York.

Application Number: 08-02-C-00-ELM.

Application Type: Impose and use a PFC.

PFC Level: $4.50.

Total PFC Revenue Approved in This Decision: $641,046.

Earliest Charge Effective Date: May 1, 2008.

Estimated Charge Expiration Date: March 1, 2010.

Classes of Air Carriers Not Required To Collect PFCs: On demand commercial operators.

Determination: Approved. Based on information contained in the public agency's application, the FAA has determined that each approved class accounts for less than 1 percent of the total annual enplanements at Elmira-Corning Regional Airport.

Brief Description of Projects Approved for Collection and Use:

Rehabilitate runway 6/24.

Design Echo apron expansion.

Design Alpha apron expansion.

Environmental assessments.

PFC application.

Design commercial apron rehabilitation.

Construct Alpha apron rehabilitation.

Access road and drainage improvement.

Construct commercial apron rehabilitation.

Construct Echo apron expansion.

Brief Description of Projects Approved for Collection:

Design parallel taxiway A and taxiway L.

Acquire easement for runway 10/28 runway protection zone.

Acquire road right-of-way in fee simple.

Acquire land for runway 24 runway protection zone.

Construct parallel taxiway A and taxiway L.

Design runway 24 and taxiway A extension.

Construct runway 24 and taxiway A extension.

Brief Description of Projects Approved for Use:

Rehabilitate taxiway D.

Runway 6 extension, phase I.

Brief Description of Disapproved Project: Land release at intersection of Chambers Road and Schweizer Road.

Determination: The project does not meet the requirements of § 158.15(a).

Decision Date: February 28, 2008.

FOR FURTHER INFORMATION CONTACT: John Moretto, New York Airports District Office, (516) 227-3806.

Public Agency: City of Manchester, New Hampshire.

Application Number: 08-12-U-00-MHT.

Application Type: Use PFC revenue.

PFC Level: $3.00.

Total PFC Revenue To Be Used in This Decision: $11,401,727.

Charge Effective Date: November 1, 2018.

Estimated Charge Expiration Date: October 1, 2020.

Class of Air Carriers Not Required To Collect PFCs: No change from previous decision.

Brief Description of Projects Approved for Use:

Glycol collection system.

Extension of runway 24 safety area.

Decision Date: February 29, 2008.

FOR FURTHER INFORMATION CONTACT: Priscilla Scott, New England Region Airports Division, (781) 238-7614.

Public Agency: City of Colorado Springs, Colorado.

Application Number: 08-12-C-00-COS.

Application Type: Impose and use a PFC.

PFC Level: $3.00.

Total PFC Revenue Approved in This Decision: $2,494,547.

Earliest Charge Effective Date: December 1, 2009.

Estimated Charge Expiration Date: December 1, 2010.

Class of Air Carriers Not Required To Collect PFCs: None.

Brief Description of Projects Approved for Collection and Use:

Rehabilitate portions of taxiways E, E1-8, G and H (phase II).

Vehicle service road—east side perimeter (phase II).

Jet bridge reconfiguration.

Public roadway signage.

Decision Date: March 20, 2008.

FOR FURTHER INFORMATION CONTACT: Chris Schaffer, Denver Airports District Office, (303) 342-1258.

Public Agency: Missoula County Airport Authority, Missoula, Montana.

Application Number: 08-07-C-00-MSO.

Application Type: Impose and use a PFC.

PFC Level: $4.50.

Total PFC Revenue Approved in This Decision: $8,106,363.

Earliest Charge Effective Date: December 1, 2008.

Estimated Charge Expiration Date: October 1, 2016.

Class of Air Carriers Not Required To Collect PFC's: Nonscheduled on-demand (air taxi) carriers.

Determination: Approved. Based on information contained in the public agency's application, the FAA has determined that the approved class accounts for less than 1 percent of the total annual enplanements at Missoula International Airport.

Brief Description of Projects Approved for Collection and Use:

Relocate security checkpoints.

Relocate localizer.

Grade object free area/runway safety area transition.

Construct fire apparatus vehicle storage facility.

Rehabilitate runway 11/29.

Improve airfield lighting.

Replace and upgrade runway pavement sensor system.

Previous and current PFC application preparation costs.

Update airport master plan study.

Security phase II—perimeter gate enhancements and system upgrade.

Terminal area safety enhancements.

Acquire aircraft rescue and firefighting equipment.

Expand snow removal equipment storage building.

Expand emergency operations center.

Acquire interactive employee training system.

Acquire liquid deicing vehicle and storage tank.

Acquire snow removal equipment (loader with snow plow).

Rehabilitate taxiways Delta, Alpha3, and north Golf.

Brief Description of Project Partially Approved for Collection and Use: Acquire one new public safety vehicle.

Determination: The public agency had requested approval to acquire two public safety vehicles. However, the FAA determined that the second vehicle was for redundancy and exceeded known requirements. Thus, the FAA limited its approval to one vehicle.

Decision Date: March 20, 2008.

FOR FURTHER INFORMATION CONTACT: Dave Stelling, Helena Airports District Office, (406) 449-5271.

Public Agency: County of Sonoma, Santa Rosa, California.

Application Number: 08-04-C-00-STS.

Application Type: Impose and use a PFC.

PFC Level: $4.50.

Total PFC Revenue Approved in This Decision: $1,594,049.

Earliest Charge Effective Date: May 1, 2008.

Estimated Charge Expiration Date: February 1, 2012.

Class of Air Carriers Not Required To Collect PFC's: None.

Brief Description of Projects Approved for Collection and Use:

Acquire land for runway approach protection (53 acres).

Obstruction removal.

Security enhancements.

Airfield vacuum sweeper.

Terminal building modernization—security screening upgrades.

Emergency equipment.

Cost benefit analysis for new terminal.

Brief Description of Withdrawn Project: Acquire two trucks, sweeper, and airfield inspection software.

Date of Withdrawal: March 19, 2008.

Decision Date: March 21, 2008.

FOR FURTHER INFORMATION CONTACT: Ron Biaoco, San Francisco Airports District Office, (650) 876-2778, extension 626.

Public Agency: County of Manistee, Manistee, Michigan.

Application Number: 08-01-C-00-MBL.

Application Type: Impose and use a PFC.

PFC Level: $4.50.

Total PFC Revenue Approved in This Decision: $388,986.

Earliest Charge Effective Date: June 1, 2008.

Estimated Charge Expiration Date: November 1, 2040.

Class of Air Carriers Not Required To Collect PFCs: Air taxi/commercial operators filing FAA Form 1800-31.

Determination: Approved. Based on information contained in the public agency's application, the FAA has determined that the approved class accounts for less than 1 percent of the total annual enplanements at Manistee County Blacker Airport.

Brief Description of Projects Approved for Collection and Use: Runway 09/27 surface treatment; precision approach path indicator lights, runway 27.

Fuel farm construction.

New runway 09/27 design engineering.

Snow removal equipment plow truck/sand spreader.

Construct and grade runway 09/27.

Land acquisition (AM 548).

Construction supervision.

Instrument landing system/very high frequency omnirange/automatic weather observation station site preparation.

Perimeter fencing design engineering.

Instrument landing system/medium intensity approach lighting system with runway alignment indicator lights/precision approach path indicator lights relocations.

Land parcels 24, 25, 26, and 27 (AM 646).

Install perimeter fence.

Environmental review of 41 land swap.

Rehabilitate runway 18/36 taxiway and apron.

Snow removal equipment building rehabilitation.

Snow removal equipment plow truck/material spreader.

Land reimbursement, runway 18 approach.

Procurement documents for aircraft rescue and firefighting and snow removal equipment vehicles.

Decision Date: March 21, 2008.

For Further Information Contact: Jason Watt, Detroit Airports District Office, (734) 229-2906.

Public Agency: City of Redmond, Oregon.

Application Number: 08-06-C-00-RDM.

Application Type: Impose and use a PFC.

PFC Level: $4.50.

Total PFC Revenue Approved in This Decision: $1,781,478.

Earliest Charge Effective Date: May 1, 2008.

Estimated Charge Expiration Date: May 1, 2010.

Class of Air Carriers Not Required To Collect PFC's: Air taxi/commercial operators—nonscheduled/on-demand air carriers filing FAA Form 1800-31.

Determination: Approved. Based on information contained in the public agency's application, the FAA has determined that the approved class accounts for less than I percent of the total annual enplanements at Roberts Field.

Brief Description of Projects Approved for Collection and Use: Construction management—terminal expansion.

Construction—terminal expansion.

Decision Date: March 27, 2008.

FOR FURTHER INFORMATION CONTACT: Trang Tran, Seattle Airports District Office, (425) 227-1662.

Amendments to PFC Approvals
Amendment No., city, state | Amendment approved date | Original approved net PFC revenue | Amended approved net PFC revenue | Original estimated charge exp. date | Amended estimated charge exp. date
00-03-C-02-CHA, Chattanooga, TN | 02/13/08 | $19,746,474 | $5,752,115 | 01/01/12 | 08/01/10
01-08-C-02-BNA, Nashville, TN | 03/03/08 | 4,514,173 | 4,328,889 | 10/01/02 | 10/01/02
92-01-C-02-GUM, Agana, CU | 03/04/08 | 800,000 | 568,661 | 06/01/94 | 06/01/94
95-0 1-C-03-SYR, Syracuse, NY | 03/17/08 | 6,737,425 | 3,954,577 | 04/01/97 | 04/01/97
94-01-C-01-LSE, LaCrosse, WI | 03/18/08 | 795,299 | 571,966 | 08/01/97 | 08/01/97
96-02-C-03-LSE, LaCrosse, WI | 03/19/08 | 84,367 | 84,734 | 11/01/99 | 11/01/99
97-03-C-03-LSE, LaCrosse, WI | 03/19/08 | 485,000 | 473,343 | 03/01/00 | 03/01/00
97-04-C-01-LSE, LaCrosse, WI | 03/19/08 | 615,000 | 245,313 | 03/01/02 | 09/01/01
*03-02-C-02-LGB, Long Beach, CA | 03/21/08 | 62,344,903 | 62,344,903 | 05/01/17 | 10/01/14
06-03-C-01-LGB, Long Beach, CA | 03/21/08 | 7,148,186 | 7,148,186 | 12/01/18 | 11/01/15

Notes: The amendment denoted by an asterisk (*) includes a change to the PFC level charged from $3.00 per enplaned passenger to $4.50 per enplaned passenger. For Long Beach, CA this change is effective on May 1,2008.

Issued in Washington, DC on April 8, 2008.
Myrn Rivera,
Acting Manager, Financial Analysis and Passenger Facility Charge Branch.

[FR Doc. E8-8066 Filed 4-15-08; 8:45 am]

BILLING CODE 4910-13-M